DEPARTMENT OF HOMELAND SECURITY

Coast Guard

[Docket No. USCG-2010-0088]

Towing Safety Advisory Committee; Meetings

AGENCY: Coast Guard, DHS.

ACTION: Notice of meetings.

SUMMARY: The Towing Safety Advisory Committee and its working group on the Revision of Navigation and Vessel Inspection Circular 04-01 will meet in New Orleans, LA. The Committee will also discuss various issues relating to shallow-draft inland and coastal waterway navigation and towing safety. All meetings will be open to the public.

DATES: The working group will meet on Tuesday, March 9, 2010, from 8:30 a.m. to 4:30 p.m. The full Committee will meet on, Wednesday, March 10, 2010, from 8:30 a.m. to 3 p.m. These meetings may close early if all business is finished. Written material and requests to make oral presentations at the meetings should reach the Coast Guard on or before March 2, 2010. Requests to have a copy of your material distributed to each member of the Committee or working groups should reach the Coast Guard electronically on or before March 2, 2010.

ADDRESSES: The meetings will be held at the New Orleans Marriott Metairie at Lakeway in New Orleans, LA; 3838 N. Causeway Boulevard, Metairie, LA 70002; Phone: 1-504-836-5253, Toll-free: 1-866-882-4377. The nearest large commercial airport is Louis Armstrong New Orleans International Airport (MSY). Information on and directions to the Marriott Metairie may be found on its web site at http://www.marriott.com/hotels/hotel-information/travel/msymm-new-orleans-marriott-metairie-at-lakeway.

Send written material and requests to make oral presentations to TSAC's Assistant Designated Federal Officer (ADFO), identified in the FOR FURTHER INFORMATION CONTACT section below. This notice is available on the Internet at http://www.regulations.gov under the docket number USCG-2010-0088.

FOR FURTHER INFORMATION CONTACT: Mr. Michael J. Harmon, ADFO, TSAC, U.S. Coast Guard Headquarters, CG-5222; 2100 Second Street, SW., STOP 7126, Washington, DC 20593-7126. Telephone (202) 372-1427, fax (202) 372-1926, or e-mail at: Michael.J.Harmon@USCG.MIL.

SUPPLEMENTARY INFORMATION: Notice of these meetings is given under the Federal Advisory Committee Act, 5 U.S.C. App. (Pub. L. 92-463).

Agenda of Meetings

Navigation and Vessel Inspection Circular (NVIC) 04-01 Working Group. The agenda for the working group is to continue discussions on possible revisions to NVIC 04-01, Licensing and Manning for Officers of Towing Vessels, including the enclosures on the Towing Officer Assessment Records (TOARs). (A copy of the amended Task Statement 08-01 is available in the docket where listed under ADDRESSES.) The current version of the NVIC can be viewed at http://www.uscg.mil/hq/cg5/nvic/2000s.ASP#2001.

Towing Safety Advisory Committee. The tentative agenda for the Committee is as follows:

(1) Update on Commercial/Recreational Boating Interface;

(2) Report on the Review and Recommendations for the Revision of NVIC 04-01 “Licensing and Manning for Officers of Towing Vessels;”

(3) Report on the Review and Recommendations for the Revision of NVIC 04-01 Sub-Working Group on Assistance Towing;

(4) Update on National Maritime Center (NMC) activities;

(5) Report on Mariner credentialing policy including the Merchant Mariner Medical Advisory Committee;

(6) Update on the Transportation Worker Identification Credential (TWIC);

(7) Update on Office of Vessel Activities information; and

(8) Discuss a Member recommended Task to examine the career path from Towing Vessel Master (Master 1600 GT) to Inland Mate Any Gross Tons.

Procedural

All meetings are open to the public. Please note that the meetings may close early if all business is finished. At the Chair's discretion, members of the public may make oral presentations during the meetings. If you would like to make an oral presentation at a meeting, please notify the ADFO, listed above in the “FOR FURTHER INFORMATION CONTACT” section, no later than March 2, 2010. Written material (20 copies) for distribution at a meeting should reach the Coast Guard no later than March 2, 2010. If you would like a copy of your material distributed to each member of the Committee or Working Groups in advance of a meeting, please submit it electronically to the ADFO, for e-mail distribution, no later than March 2, 2010. Also at the Chair's discretion, members of the public may present comment at the end of the Public Meeting. Please understand that the Committee's schedule may be quite demanding and time for public comment may be limited.

Information on Services for Individuals With Disabilities

For information on facilities or services for individuals with disabilities or to request special assistance at the meetings, contact the ADFO as soon as possible.

Dated: February 16, 2010.
J. G. Lantz,
Director of Commercial Regulations and Standards.

[FR Doc. 2010-3312 Filed 2-19-10; 8:45 am]

BILLING CODE 9110-04-P